DEPARTMENT OF STATE

[Public Notice 6067]

Notice of Receipt of Application for a Presidential Permit To Construct, Operate, and Maintain a New Border Crossing Facility on the U.S.-Mexico Border at San Diego, CA and Tijuana, Baja California, Mexico

AGENCY: Department of State.

ACTION: Notice.

SUMMARY: The Department of State hereby gives notice that, on January 14, 2008, it received an application for a Presidential Permit to authorize the construction, operation, and maintenance of a new border crossing facility on the U.S.-Mexico border at San Diego, California and Tijuana, Baja California, Mexico. The new crossing would be approximately two miles east of the current Otay Mesa port of entry, and would connect to existing roads via a proposed new State highway. The California Department of Transportation (“Caltrans”), a branch of the California State government, filed this application and is acting as the project's sponsor. The Department of State's jurisdiction over this application is based upon Executive Order 11423 of August 16, 1968, as amended. As provided in E.O. 11423, the Department is circulating this application to relevant Federal and State agencies for review and comment. Under E.O. 11423, the Department has the responsibility to determine, taking into account input from these agencies and other stakeholders, whether this proposed border crossing is in the U.S. national interest.

DATES: Interested members of the public are invited to submit written comments regarding this application on or before April 23, 2008 to Mr. Daniel Darrach, U.S.-Mexico Border Affairs Coordinator, via e-mail at WHA-BorderAffairs@state.gov or by mail at WHA/MEX—Room 4258, Department of State, 2201 C St., NW., Washington, DC 20520.

FOR FURTHER INFORMATION CONTACT: Mr. Daniel Darrach, U.S.-Mexico Border Affairs Coordinator, via e-mail at WHA-BorderAffairs@state.gov; by phone at 202-647-9894; or by mail at WHA/MEX—Room 4258, Department of State, 2201 C St., NW., Washington, DC 20520. General information about Presidential Permits is available on the Internet at http://www.state.gov/p/wha/rt/permit/.

SUPPLEMENTARY INFORMATION: This application and related environmental assessment documents are available for review in the Office of Mexican Affairs, Border Affairs Unit, Department of State, during normal business hours.

Dated: January 17, 2008.
John Dickson,
Director, Office of Mexican Affairs, Department of State.

[FR Doc. E8-1217 Filed 1-23-08; 8:45 am]

BILLING CODE 4710-29-P